DEPARTMENT OF THE INTERIOR

Bureau of Reclamation

Resource Management Plan for Elephant Butte and Caballo Reservoirs, New Mexico

AGENCY: Bureau of Reclamation, Interior

ACTION: Notice of availability of the Final Environmental Impact Statement on the Resource Management Plan for Elephant Butte and Caballo Reservoirs INT-FES-02-17.

SUMMARY: Pursuant to section 102 (2) (C) of the National Environmental Policy Act of 1969, as amended, the Bureau of Reclamation (Reclamation) has prepared a Final Environmental Impact Statement (FEIS) on the Resource Management Plan (RMP) for Elephant Butte and Caballo Reservoirs. Reclamation's proposed action is to develop an RMP that provides a conceptual framework for the conservation, protection, development, use, enhancement, and management of resources at Elephant Butte and Caballo Reservoirs. The proposed action exercises the provisions of several federal laws applicable to Reclamation.

ADDRESSES: Copies of the FEIS are available for public review and inspection at the following locations:

• Bureau of Reclamation, Upper Colorado Regional Office, 125 South State Street, Room 6107, Salt Lake City, Utah 84138-1147; telephone (801) 524-3829

• Bureau of Reclamation, Albuquerque Area Office, 505 Marquette NW., Suite 1313, Albuquerque, New Mexico 87102; telephone (505) 248-5357

• Bureau of Reclamation, Elephant Butte Field Division, HC32, Box 312, Truth or Consequences, New Mexico 87901; telephone (505) 894-6661

• Bureau of Reclamation, El Paso Field Division, 700 East San Antonio Avenue, Room 710, El Paso, Texas 79901; telephone (915) 534-6299

• Local Government Division, Attention: Ken Hughes, Bataan Memorial Building, Room 201, Santa Fe, New Mexico 87503.

Libraries

• Copies will also be available for public review and inspection at the following public libraries:

• Santa Fe Library, 145 Washington Avenue, Santa Fe, New Mexico

• Rio Grande Valley Library, 501 Cooper Avenue, N.W., Albuquerque, New Mexico

• Socorro Public Library, 401 Park Street, Socorro, New Mexico

• Truth or Consequences Public Library, 325 Library Lane, Truth or Consequences, New Mexico

• Las Cruces Library, 200 East Picacho, Las Cruces, New Mexico

• El Paso Public Library, 501 North Oregon Street, El Paso, Texas

FOR FURTHER INFORMATION CONTACT: Mr. Clay McDermeit, Reclamation Team Leader, Elephant Butte and Caballo Reservoirs RMP, 505 Marquette NW., Suite 1313, Albuquerque, New Mexico, 87102, telephone (505) 248-5391; or Ms. Rosemary Romero, Western Network, 1350-B, San Juan Drive, Santa Fe, New Mexico 87505; telephone (505) 982-9805.

SUPPLEMENTARY INFORMATION: The FEIS considers the effects of four management alternatives on the land and water resources at Elephant Butte and Caballo Reservoirs. The Multi-Purpose Emphasis Alternative, which provides for a variety of multiple uses including expanded developed recreation areas, improved primitive recreation areas, and designated wildlife management areas, has been selected as the preferred alternative. This alternative further identifies a course of action with minimal environmental impact, increased resource protection, and an acceptable level of recreational use. Under the selected alternative, grazing would continue based on extensive monitoring and confirmation of the capability of the resources to sustain grazing, a total of 378 lease lots would be privatized, additional wildlife management areas would be established, and selected recreation facilities would be expanded to accommodate future public recreation needs.

The Draft Environmental Impact Statement was issued September 24, 1999. Responses to comments received from interested organizations and individuals on the draft are addressed in the FEIS. No decision will be made on the proposed action until 30 days after release of the FEIS. After the 30-day waiting period, Reclamation will complete a Record of Decision. The Record of Decision will state the action that will be implemented and discuss all factors leading to that decision.

Dated: May 3, 2002.
Rick L. Gold,
Regional Director.

[FR Doc. 02-15021 Filed 6-13-02; 8:45 am]

BILLING CODE 4310-MN-P